ENVIRONMENTAL PROTECTION AGENCY

[EPA-HQ-OAR-2007-1196; FRL-9907-69-OAR]

Recent Postings of Broadly Applicable Alternative Test Methods

AGENCY: Environmental Protection Agency (EPA).

ACTION: Notice of availability.

SUMMARY: This notice announces the broadly applicable alternative test method approval decisions the EPA has made under and in support of New Source Performance Standards (NSPS), the National Emission Standards for Hazardous Air Pollutants (NESHAP), and the Consolidated Federal Air Rule under the Clean Air Act (CAA) in 2013.

FOR FURTHER INFORMATION CONTACT: An electronic copy of each alternative test method approval document is available on the EPA's Web site at www.epa.gov/ttn/emc/approalt.html. For questions about this notice, contact Ms. Lula H. Melton, Air Quality Assessment Division, Office of Air Quality Planning and Standards (E143-02), Environmental Protection Agency, Research Triangle Park, NC 27711; telephone number: 919-541-2910; fax number: 919-541-0516; email address: melton.lula@epa.gov. For technical questions about individual alternative test method decisions, refer to the contact person identified in the individual approval documents.

SUPPLEMENTARY INFORMATION:

I. General Information

A. Does this notice apply to me?

This notice will be of interest to entities regulated under 40 Code of Federal Regulations (CFR) parts 60, 61, 63, and 65, state, local, and tribal agencies, and the EPA Regional Offices responsible for implementation and enforcement of regulations under 40 CFR parts 60, 61, 63, and 65.

B. How can I get copies of this information?

You may access copies of the broadly applicable alternative test method approval documents from the EPA's Web site at www.epa.gov/ttn/emc/approalt.html.

II. Background

Broadly applicable alternative test method approval decisions made by the EPA in 2013 under the NSPS, 40 CFR part 60, the NESHAP, 40 CFR parts 61 and 63, and the Consolidated Federal Air Rule, 40 CFR part 65 are identified in this notice (see Table 1). Source owners and operators may voluntarily use these broadly applicable alternative test methods subject to their specific applicability. Use of these broadly applicable alternative test methods does not change the applicable emission standards.

As explained in a previous Federal Register notice published at 72 FR 4257 (January 30, 2007) and found on the EPA's Web site at www.epa.gov/ttn/emc/approalt.html, the EPA Administrator has the authority to approve the use of alternative test methods to comply with requirements under 40 CFR parts 60, 61, and 63. This authority is found in sections 60.8(b)(3), 61.13(h)(1)(ii), and 63.7(e)(2)(ii). A similar authority is granted in 40 CFR part 65 under section 65.158(a)(2). In the past, we have performed thorough technical reviews of numerous requests for alternatives and modifications to test methods and procedures. Based on these reviews, we have often found that these changes or alternatives would be equally valid and appropriate to apply to other sources within a particular class, category, or subcategory. Consequently, we have concluded that, where a method modification or an alternative method is broadly applicable to a class, category, or subcategory of sources, it is both more equitable and efficient to approve its use for all appropriate sources and situations at the same time.

It is important to clarify that alternative methods are not mandatory but permissive. Sources are not required to employ such a method but may choose to do so in appropriate cases. Source owners or operators should review the specific broadly applicable alternative method approval decision on the EPA's Web site at www.epa.gov/ttn/emc/approalt.html before electing to employ it. As per 63.7(f)(5), by electing to use an alternative method for 40 CFR part 63 standards, the source owner or operator must continue to use the alternative method until approved otherwise.

The criteria for approval and procedures for submission and review of broadly applicable alternative test methods are outlined at 72 FR 4257 (January 30, 2007). We will continue to announce approvals for broadly applicable alternative test methods at www.epa.gov/ttn/emc/approalt.html and annually publish a notice that summarizes approvals for broadly applicable alternative test methods.

This notice comprises a summary of seven such approval documents added to our Technology Transfer Network from January 1, 2013, through December 31, 2013. The alternative method decision letter/memo number, the reference method affected, sources allowed to use this alternative, and the modification or alternative method allowed are summarized in Table 1 of this notice. Please refer to the complete copies of these approval documents available at www.epa.gov/ttn/emc/approalt.html as Table 1 serves only as a brief summary of the broadly applicable alternative test methods.

If you are aware of reasons why a particular alternative test method approval that we issued should not be broadly applicable, we request that you make us aware of the reasons in writing, and we will revisit the broad approval. Any objection to a broadly applicable alternative test method, as well as the resolution of that objection, will be announced at www.epa.gov/ttn/emc/approalt.html and in the subsequent Federal Register notice. If we decide to retract a broadly applicable test method, we would continue to grant case-by-case approvals, as appropriate, and would (as states, local and tribal agencies and the EPA Regional Offices should) consider the need for an appropriate transition period for users either to request case-by-case approval or to transition to an approved method.

Dated: March 5, 2014.
Mary E. Henigin,
Acting Director, Office of Air Quality Planning and Standards.

Table 1—Approved Alternative Test Methods and Modifications to Test Methods Referenced in or Published Under Appendices in 40 CFR Parts 60, 61, 63 and 65 Made Between January 2013 and December 2013
Alternative method decision letter/memo No. | As an alternative or modification to . . . | For . . . | You may . . .
ALT-098 | Method 18—Measurement of Gaseous Organic Compound Emissions by Gas Chromatography | Flares subject to the general control device provisions of 40 CFR part 60, section 60.18 | Use SUMMA cannisters in lieu of Tedlar bags for determination of heat content.
ALT-099 | Method 2—Determination of Stack Gas Velocity and Volumetric Flow Rate (Type S Pitot Tube), Method 2A—Direct Measurement of Gas Volume Through Pipes and Small Ducts, Method 2C—Determination of Gas Velocity and Volumetric Flow Rate in Small Stacks or Ducts (Standard Pitot Tube), or Method 2D—Measurement of Gas Volume Flow Rates in Small Pipes and Ducts | Sources subject to 40 CFR 60.18(f)(4) and 63.11(b)(7)(i) | Use optical flow meters to measure flare gas flow rate provided the calibrations are maintained within the manufacturer's recommended frequency.
ALT-100 | Method 18—Measurement of Gaseous Organic Compound Emissions by Gas Chromatography | Sources subject to sampling and analysis procedures for flare gas fuel heat content (BTU value) measurement required by 40 CFR 60.18(f)(3) | Use of alternative sampling and analytical procedures in Method 18 for flare gas heat content.
ALT-101 | ASTM test methods cited in the subparts listed in the next column | Sources subject to 40 CFR part 60, subparts K, Ka, and Kb; 40 CFR part 61, subpart FF; 40 CFR part 63, subparts G, Y, CC, EEEE, and GGGGG; and 40 CFR part 65, subpart C | Use ASTM D6377-10—Standard Test Method for Determination of Vapor Pressure of Crude Oil: VPCRX (Expansion Method) to determine vapor pressures of crude oils that have a vapor pressure within the range of 25 to 180kPa at 37.8 °C.
ALT-102 | NIST—certified reference gas specifications described in Section 16.2.4 of PS-2 | Sources subject to 40 CFR part 60, subpart Ja-Standards of Performance for Petroleum Refineries for Which Construction, Reconstruction, or Modification Commenced After May 14, 2007 | Use gases certified to within two percent of the manufacturer's listed concentrations.
ALT-103 | Method 101A—Mercury from Sewage Sludge Incinerators and Method 105—Determination of Mercury in Wastewater Treatment Plant Sewage Sludges | Analysis of sewage sludge sources subject to 40 CFR part 61, subpart E for samples collected by Methods 105 and 101A | Use EPA SW-846, Method 7471A and 7471B—Mercury in Solid or Semisolid Waste (Manual Cold-Vapor Technique) in lieu of analytical procedures required in EPA Method 105 for analysis of sewage sludge samples and Method 7470A—Mercury in Liquid Waste (Manual Cold-Vapor Technique) as an alternative method for analyzing samples collected by Method 101A.
ALT-104 | Method 10—Carbon Monoxide—NDIR | Sources subject to 40 CFR part 63, subpart ZZZZ—National Emission Standards for Hazardous Air Pollutants for Stationary Reciprocating Internal Combustion Engines | Use the South Coast Air Quality Management District (SCAQMD) Method 100.1—Instrumental Analyzer Procedures for Continuous Gaseous Emission Sampling for measurement of carbon monoxide.

Source owners or operators should review the specific broadly applicable alternative method approval letter on the EPA's Web site at www.epa.gov/ttn/emc/approalt.html before electing to employ it.

[FR Doc. 2014-05386 Filed 3-11-14; 8:45 am]

BILLING CODE 6560-50-P